DEPARTMENT OF THE INTERIOR

Bureau of Land Management

[LLWY-957400-11-L14200000-BJ0000]

Filing of Plats of Survey, Wyoming and Nebraska

AGENCY: Bureau of Land Management, Interior.

ACTION: Notice.

SUMMARY: The Bureau of Land Management (BLM) has filed the plats of survey of the lands described below in the BLM Wyoming State Office, Cheyenne, Wyoming, on the dates indicated.

FOR FURTHER INFORMATION CONTACT: Bureau of Land Management, 5353 Yellowstone Road, P.O. Box 1828, Cheyenne, Wyoming 82003.

SUPPLEMENTARY INFORMATION: These surveys and supplementals were executed at the request of the Bureau of Land Management, and are necessary for the management of resources. The lands surveyed are:

The supplemental plat showing corrected bearing and updated lottings and areas based on the plat approved April 27, 1938, Township 27 North, Range 72 West, Sixth Principal Meridian, Wyoming, Group No. 838, was accepted April 7, 2011.

The plat and field notes representing the dependent resurvey of a portion of the south boundary, and portions of the subdivisional lines, and the survey of certain sections, Township 36 North, Range 111 West, Sixth Principal Meridian, Wyoming, Group No. 813, was accepted June 1, 2011.

The supplemental plat correcting the distance of the West half of the South boundary of section 34, Township 21 North, Range 95 West, Sixth Principal Meridian, Wyoming, along the Fifth Standard Parallel North, was accepted June 1, 2011, and based upon the dependent resurvey plat of Township 20 North, Range 95 West, accepted September 29, 2005.

The supplemental plat correcting the bearing along the Twelfth Standard Parallel North from the true point for the standard ¼ section corner of section 32 to the witness corner for the standard ¼ section corner of section 32, and the distance from the witness corner for the standard ¼ to the standard W. 1/16 section corner of section 32, Township 49 North, Range 78 West, Sixth Principal Meridian, Wyoming, was accepted June 1, 2011 and based upon the dependent resurvey plat of Township 49 North, Range 78 West, accepted February 3, 2006.

The plat and field notes representing the dependent resurvey of a portion of the subdivisional lines, and the subdivision of section 27, Township 13 North, Range 91 West, Sixth Principal Meridian, Wyoming, Group No. 812, was accepted July 20, 2011.

The field notes representing the remonumentation of the ¼ section corner of sections 11 and 14, Township 56 North, Range 77 West, Sixth Principal Meridian, Wyoming, Group No. 850, was accepted July 20, 2011.

The plat and field notes representing the corrective dependent resurvey of a portion of the subdivisional lines and the subdivision of section 23, Township 31 North, Range 49 West, Sixth Principal Meridian, Nebraska, Group No. 165, was accepted July 20, 2011.

The amended field notes to revise and/or correct certain corner descriptions in the dependent resurvey of a portion of the subdivisional lines and the subdivision of certain sections, Township 31 North, Range 49 West, Sixth Principal Meridian, Nebraska, were accepted July 20, 2011 and linked to Group No. 152 which was accepted June 2, 2006.

Copies of the preceding described plats and field notes are available to the public at a cost of $1.10 per page.

Dated: September 1, 2011.
John P. Lee,
Chief Cadastral Surveyor, Division of Support Services.

[FR Doc. 2011-22932 Filed 9-7-11; 8:45 am]

BILLING CODE 4310-22-P